DEPARTMENT OF THE INTERIOR

Fish and Wildlife Service

Draft Comprehensive Conservation Plan and Environmental Assessment for Eastern Shore of Virginia and Fisherman Island National Wildlife Refuges

AGENCY: Fish and Wildlife Service, Department of the Interior.

ACTION: Notice of availability.

SUMMARY: The U.S. Fish and Wildlife Service (Service) announces that the Draft Comprehensive Conservation Plan (CCP) and Environmental Assessment (EA) is available for Eastern Shore of Virginia and Fisherman Island National Wildlife Refuges (NWR). This Draft CCP/EA is prepared pursuant to the National Wildlife Refuge System Administration Act of 1966, as amended by the National Wildlife Refuge System Improvement Act of 1997 (16 U.S.C. 668dd et seq.), and the National Environmental Policy Act of 1969, and describes how the Service intends to manage the refuges over the next 15 years.

DATES: You must submit comments on the Draft CCP/EA by November 10, 2003. Dates and locations of the public meetings are as follows: Wednesday, October 8, 6:30-9 p.m. at The Lake Wright Quality Inn and Sleep Inn on 6280 Northampton Blvd., Norfolk, Virginia; and Thursday, October 9, 2-4 p.m. and 6:30-9 p.m. in the Northampton High School auditorium, 16041 Courthouse Road, Eastville, Virginia.

SEND YOUR COMMENTS TO: Beth Goldstein, Team Leader, U.S. Fish and Wildlife Service, 300 Westgate Center Drive, Hadley, Massachusetts 01035, or e-mail comments to northeastplanning@fws.gov with the subject line stating “Eastern Shore of Virginia and Fisherman Island NWRs.”

ADDRESSES: Copies of this Draft CCP/EA are available on compact diskette or hard copy, and may be obtained by writing: Beth Goldstein, U.S. Fish and Wildlife Service, 300 Westgate Center Drive, Hadley, Massachusetts 01035, or e-mail requests to northeastplanning@fws.gov. Copies of this document may also be accessed at the website address http://northeast.fws.gov/planning.

FOR FURTHER INFORMATION CONTACT: Beth Goldstein, Team Leader/Regional Planner; (413) 253-8564, e-mail Beth_Goldstein@fws.gov.

SUPPLEMENTARY INFORMATION: This Draft CCP/EA evaluates four alternative ways of meeting refuge purposes and goals and of addressing key management issues. In addition to outlining broad management direction on conserving wildlife and their habitats, each alternative identifies wildlife-dependent recreational opportunities available to the public, including opportunities for hunting, fishing, wildlife observation and photography, and environmental education and interpretation. Alternative A describes current management on the refuges and serves as a baseline against which the other three alternatives are compared. Alternative B is the Service's Proposed Action, and Alternatives C and D are additional alternatives considered in the planning process. Public comment is being solicited on all alternatives. Based on the analysis documented in this Draft CCP/EA, the Region 5 Regional Director of the U.S. Fish and Wildlife Service (Service) will select a preferred alternative to be fully developed into a CCP for the refuges. A CCP is required by the National Wildlife Refuge System Administration Act of 1966, as amended by the National Wildlife Refuge System Improvement Act of 1997 (16 U.S.C. 668dd et seq). The purpose of developing CCPs is to provide refuge managers with a 15-year strategy for achieving refuge purposes and contributing toward the mission of the National Wildlife Refuge System, consistent with sound principles of fish and wildlife science, conservation, legal mandates, and Service policies. The CCP will be reviewed and updated at least every 15 years in accordance with the National Wildlife Refuge System Administration Act of 1966, as amended by the National Wildlife Refuge System Improvement Act of 1997 (16 U.S.C. 668dd et seq.), and the National Environmental Policy Act of 1969.

The Eastern Shore of Virginia NWR consists of 1,120 acres. The refuge was created in 1984, when 180 acres were transferred to the Service from the U.S. Air Force through the General Services Administration. The refuge contains a variety of habitats, such as maritime forest, myrtle and bayberry thickets, grassland, fresh and brackish ponds, tidal salt marsh and beach. The refuge and its adjoining woodlands are regarded as one of the most important migratory bird corridors along the East Coast, comparable to the better known Cape May, New Jersey. This importance stems from the fact that the Delmarva Peninsula acts as a geographic funnel for migratory birds in the fall. It is on the Eastern Shore of Virginia NWR where millions of migratory birds rest and feed until favorable winds blow to assist them in crossing the Chesapeake Bay. The refuge was established administratively through the following general legislative authorities:

Transfer of Certain Real Property for Wildlife Conservation Purposes Act (16 U.S.C. 667b-667d): “authorizing land to be transferred without reimbursement to the Secretary of the Department of the interior (DOI) if the land had particular value for migratory birds.”

Refuge Recreation Act (16 U.S.C. 460k-460k-4): “authorizing acquisition of lands and interests suitable for: (1) Fish and wildlife-oriented recreation, (2) protection of natural resources, and (3) conservation of endangered or threatened species.* * *”

Migratory Bird Conservation Act (16 U.S.C. 715-715d, 715e, 715f-715r): “Authorizing the acquisition of land “* * * for use as an inviolate sanctuary, or for any other management purpose, for migratory birds.”

Fisherman Island NWR is the southernmost barrier island in Virginia. It is separated from the Eastern Shore of Virginia NWR by approximately a half-mile of sea called Fisherman's Inlet. Accretion continues to expand the island's size, currently estimated at 1,850 acres. The refuge was established in 1969 and transferred to DOI by 1973. Habitat succession has formed a mosaic of vegetative communities. The variety of habitats combined with the geographic location of the island, the accessibility of food, protective shrub and thicket cover, and minimal human disturbance make this island an important stopover location for migratory birds. Fisherman Island, however, is not undisturbed. The Chesapeake Bay Bridge-Tunnel (Bridge-Tunnel), which links mainland Virginia to the eastern shore, cuts through the western part of the island. Fisherman Island Refuge was established administratively through the following legislation:

Transfer of Certain Real Property for Wildlife Conservation Purposes Act (16 U.S.C. 667b-667d): “authorizing land to be transferred without reimbursement to the Secretary of DOI if the land has particular value for migratory birds.”

Migratory Bird Conservation Act (16 U.S.C. 715-715d, 715e, 715f-715r): authorizing the acquisition of land “* * * for use as an inviolate sanctuary, or for any other management purpose, for migratory birds.”

The following is a list of key issues and a description of how each issue was addressed across alternatives.

Wise Point boat ramp: When the United States acquired the former Wise Point property in December 2001, it inherited a private boat ramp which provides the only access to deep water on the southern tip of the Delmarva Peninsula. The boat ramp is unsafe in its current condition and therefore was closed in June 2002 to everyone except 21 commercial watermen who were paying a commercial rate to the Wise Point Corporation, the former owners. Recreational anglers who have used the boat ramp in the past are anxious for the boat ramp to reopen. In all alternatives, the Service proposes to open the boat ramp to recreational and commercial users. In Alternative A, the Service would manage the boat ramp much as it was managed by the Wise Point Corporation. The Service would not make improvements to the boat ramp area and would allow 24-hour access for commercial watermen who apply for a special use permit. In all other alternatives, the Service would improve the parking lot and boat ramp and reserve parking spaces for commercial watermen. Over time, the Service would phase out docking, 24-hour access and reserved parking privileges for commercial watermen. Alternatives C and D propose scaling down the size of the parking lot from 75 spaces (Alternative B, the Preferred Alternative) to 35 and 25 spaces, respectively.

Firearms range: An inholding adjacent to the refuge and owned by Northampton County is home to a firearms range used for law enforcement personnel from Federal, State and County agencies. There are elevated levels of contaminants in the range area. Noise generated from firearms has the potential to conflict with the visitor experience. In all Alternatives, the Service would continue to work with partners to find an alternate, off-refuge site for the firearms range. Refuge staff would also continue to maintain the firearms range and schedule use so as not to conflict with environmental education programs. In alternatives B, C and D, the Service would also work with Northampton County to implement modern practices for firearms range management such as controlling surface runoff and leachate from the berm and periodically removing contaminated soils.

Communications tower: Verizon Virginia, Inc., owns a 299-foot communications tower on the refuge. The tower supports in-house radio communications for Verizon and refuge staff. The communications tower could cause bird strikes and the tower does not conform to current Service guidance on communications tower siting. Adjacent to the tower is a switching station that houses underground communications lines which cross the Chesapeake Bay Bridge-Tunnel and head north to Cape Charles. The lease on both the tower and the switching station expires in 2007. In all alternatives, the Service proposes not to renew the lease for the tower. Verizon would be responsible for removing the tower once the lease expires. In Alternative B, the Service would work with Verizon to assess the need for continued use of the switching station.

Land acquisition: In alternative A, the Service would continue to acquire from willing sellers the remaining 310 acres of land within Eastern Shore of Virginia NWR's current approved acquisition boundary. In Alternatives B, C, and D the Service proposes to expand the acquisition boundary to include 6,030 acres.

Dated: March 20, 2003.
Richard O. Bennett,
Acting Regional Director, U.S. Fish and Wildlife Service, Hadley, Massachusetts.

[FR Doc. 03-24344 Filed 9-25-03; 8:45 am]

BILLING CODE 4310-55-M